DEPARTMENT OF COMMERCE

National Oceanic and Atmospheric Administration

[I.D. 010723185-1185-01]

Nominations for Federal Advisory Committee on Marine Protected Areas

AGENCY: National Oceanic and Atmospheric Administration (NOAA), Commerce.

ACTION: Notice of request for nominations.

SUMMARY: The Department of Commerce is establishing a Federal Advisory Committee on Marine Protected Areas (MPA) pursuant to Executive Order 13158 and is seeking nominations for membership on this Committee.

DATES: Nominations must be postmarked on or before September 15, 2001.

ADDRESSES: Nominations should be sent to Office of Ocean and Coastal Resource Management, NOAA, 1315 East-West Highway, Silver Spring, MD 20910 ATTN: Federal Advisory Committee on Marine Protected Areas.

FOR FURTHER INFORMATION CONTACT: Roger Griffis, NOAA, (301) 713-3155 Extension 104. E-mail: Roger.B.Griffis@noaa.gov.

SUPPLEMENTARY INFORMATION: On June 4, 2001, Secretary of Commerce Donald L. Evans released a statement announcing the Administrations's retention of Executive Order 13158. The Secretary also announced his intention to appoint a Marine Protection Area Advisory Committee. To complete this task the Secretary has decided to seek nominations in addition to those previously solicited (see 65 FR 50503, August 18, 2000) and initiate a review of all nominees.

Executive Order 13158 directs the Department of Commerce and the Department of the Interior to seek the expert advice and recommendations of non-Federal scientists, resource managers, and other interested persons and organizations through a Marine Protected Areas Federal Advisory Committee. The Advisory Committee will provide advice and recommendations to the Secretary of Commerce and the Secretary of the Interior to focus Federal Government efforts to develop information about existing MPAs, to help identify areas where research may support management of marine resources through MPAs, and to undertake other appropriate MPA activities. The terms of Executive Order 13158 make clear that it is not intended to supplant existing statutory authorities or to create new legal authority to regulate marine resources. Activities conducted under Executive Order 13158 will be consistent with current law. The MPA Advisory Committee will be established through a public process that will ensure the Administration will benefit from a broad, balanced range of expertise and views as it undertakes MPA-related activities. Initial committee members will be selected for two or three year terms of service. The Committee will meet at least once annually; however, members of subcommittees, task forces, and/or working groups established by the Committee may meet on a more frequent basis. Members of the Committee will not be compensated, but may be allowed travel and per diem expenses.

The Department of Commerce is seeking a diverse group of approximately 25 highly qualified individuals to serve on the Marine Protected Areas Federal Advisory Committee. Nominations are sought for non-Federal scientists, resource managers, and persons representing other interests or organizations. Individuals seeking membership on the Advisory Committee should possess demonstrable expertise in a field related to MPAs and/or an interest affected by MPAs. Nominees will also be considered based on their ability to contribute to a balance of interests and points of view.

Nominations are encouraged from all interested parties, such as scientific societies; academic and research institutions; groups or governments representing Native Americans, Alaska Natives, Native Hawaiians, Caribbean Islanders and Pacific islanders; states, territories and localities; interest groups such as the fishing (recreational and commercial), boating, diving, recreational, maritime, historical and philanthropic communities; conservation organizations; mineral and oil production interests; and Federal agencies.

Note: No Federal agency employees may be appointed to serve on the Committee, but nominations for non-federal employees will be accepted from Federal agencies.

All nominations received during the prior nomination period (August-October, 2000) will be considered along with any new nominations received during the second nomination period, unless a nominee withdraws his or her application. No additional submission is required for those nominees from the prior nomination period. Any nominee from the prior nomination period however, may submit new information to update his or her file. All nominations will be treated equally during the review and selection process.

Each submission should include the following material to be considered for review: The submitting person or organization's name and affiliation; a cover letter describing the nominee's qualifications and interest in serving on the Committee; a Curriculum Vitae or resume of nominee; and the nominee's name, address, phone number, fax number, and e-mail address. Self-nominations are acceptable. Letters of support describing the nominee's qualifications are optional and no more than three supporting letter(s) will be accepted.

Nominations should be sent to (see ADDRESSES) and nominations must be postmarked on or before September 15, 2001. The full text of the executive order can be found at the following website address: www.mpa.gov.

Dated: August 6, 2001.
Alan Neuschatz,
Chief Financial Officer/Chief Administrative Officer, Ocean Services and Coastal Zone Management.

[FR Doc. 01-20067 Filed 8-9-01; 8:45 am]

BILLING CODE 3510-08-M